DEPARTMENT OF AGRICULTURE

Commodity Credit Corporation

Notice of Funds Availability; Inviting Applications for the Emerging Markets Program; Correction

AGENCY: Foreign Agricultural Service, U.S. Department of Agriculture.

ACTION: Notice; correction.

SUMMARY: The Foreign Agricultural Service published a document in the Federal Register of December 18, 2008, concerning funds availability and inviting applications for the Emerging Markets Program. The document contained incorrect dates.

FOR FURTHER INFORMATION CONTACT: Mark Slupek, 202-720-4327.

Correction

In the Federal Register of December 18, 2008, in FR Doc. E8-30071, on page 77000, in the first column, correct the DATES caption to read:

DATES: All proposals must be received by 5 p.m. Eastern Standard Time, January 21, 2009. Applications received after this time will be considered only if funds are still available.

In the Federal Register of December 18, 2008, in FR Doc. E8-30071, on page 77002, in the second column, correct the “3. Submission Dates and Times” caption to read:

3. Submission Dates and Times. All applications must be received by 5 p.m. Eastern Standard Time, January 21, 2009 in the Grants Management Branch either electronically or hand delivered. Applications received after this time will be considered only if funds are still available.

In the Federal Register of December 18, 2008, in FR Doc. E8-30071, on page 77002, in the second column, correct the “5. Other Submission Requirement and Considerations” caption to read:

5. Other Submission Requirements and Considerations. All Internet-based applications must be properly submitted by 5 p.m. Eastern Standard Time, January 21, 2009.

All applications on compact disc (using Word or compatible format, with two accompanying paper copies) and any other form of application must be received by 5 p.m. Eastern Standard Time, January 21, 2009, at the following address:

Hand Delivery (including FedEx, DHL, UPS, etc.): U.S. Department of Agriculture, Foreign Agricultural Service, Grants Management Branch, Portals Office building, Suite 400, 1250 Maryland Avenue, SW., Washington, DC 20024.

Dated: December 24, 2008.
W. Kirk Miller,
Acting Administrator, Foreign Agricultural Service.

[FR Doc. E8-31469 Filed 1-6-09; 8:45 am]

BILLING CODE 3410-10-M